ENVIRONMENTAL PROTECTION AGENCY

[FRL-12556-01-R6]

Clean Air Act Operating Permit Program; Petition for Objection to State Operating Permit for Valero Refining-Texas, L.P., Harris County, Texas

AGENCY: Environmental Protection Agency (EPA).

ACTION: Notice of final order on petition.

SUMMARY: The Environmental Protection Agency (EPA) former Acting Administrator signed an Order dated January 07, 2025, granting in part and denying in part a petition dated August 20, 2024, from Texas Environmental Justice Advocacy Services, Caring for Pasadena Communities, Lone Star Chapter of the Sierra Club, and Environmental Integrity Project (the Petitioners). The petition requested that the EPA object to a Clean Air Act (CAA) title V operating permit issued by the Texas Commission on Environmental Quality (TCEQ) to Valero Refining-Texas, L.P., for its Valero Houston Refinery located in Harris County, Texas.

FOR FURTHER INFORMATION CONTACT: Jonathan Ehrhart, EPA Region 6 Office, Air Permits Section, (214) 665-2295, ehrhart.jonathan@epa.gov. The final order and petition are available electronically at: https://www.epa.gov/title-v-operating-permits/title-v-petition-database.

SUPPLEMENTARY INFORMATION: The EPA received a petition from Texas Environmental Justice Advocacy Services, Caring for Pasadena Communities, Lone Star Chapter of the Sierra Club, and Environmental Integrity Project dated August 20, 2024, requesting that the EPA object to the issuance of operating permit No. O1381, issued by TCEQ to Valero Refining-Texas, L.P., for its Valero Houston Refinery located in Harris County, Texas. On January 07, 2025, the EPA former Acting Administrator issued an Order granting in part and denying in part the petition. The order itself explains the basis for the EPA's decision.

Sections 307(b) and 505(b)(2) of the CAA provide that a petitioner may request judicial review of those portions of an order that deny issues in a petition. Any petition for review shall be filed in the United States Court of Appeals for the appropriate circuit no later than September 15, 2025.

Dated: June 30, 2025.
James McDonald,
Director, Air and Radiation Division, Region 6.

[FR Doc. 2025-13326 Filed 7-15-25; 8:45 am]

BILLING CODE 6560-50-P